DEPARTMENT OF COMMERCE

National Oceanic and Atmospheric Administration

[I.D. 061803E]

Endangered and Threatened Species; Take of Anadromous Fish

AGENCY: National Marine Fisheries Service (NMFS), National Oceanic and Atmospheric Administration (NOAA), Commerce.

ACTION: Issuance of five scientific research permits/modifications (1140, 1156, 1309, 1315, 1376).

SUMMARY: Between April 21 and May 6, 2003, NMFS' Northwest Region issued the above noted research permits and permit modifications allowing endangered and threatened species of Pacific salmon and steelhead to be taken for scientific research purposes under the Endangered Species Act (ESA). The research actions and the species they affect are listed in the SUPPLEMENTARY INFORMATION section below.

ADDRESSES: The permits, permit applications, and related documents are available for review during business hours by appointment at NMFS' Protected Resources Division, F/NWO3, 525 NE Oregon Street, Suite 500, Portland, OR 97232-2737 (phone: 503-230-5400, fax: 503-230-5435).

FOR FURTHER INFORMATION CONTACT: Garth Griffin, Portland, OR (phone: 503-231-2005, fax: 503-230-5435, e-mail: garth.griffin@noaa.gov).

SUPPLEMENTARY INFORMATION:

Authority

The ESA requires that permits and permit modifications be issued based on findings that such actions: (1) are applied for in good faith; (2) would not operate to the disadvantage of the listed species that are the subject of the actions; and (3) are consistent with the purposes and policies set forth in section 2 of the ESA. Authority to take listed species is subject to conditions set forth in the permits. Permits, modifications, and amendments are issued in accordance with, and are subject to, the ESA and NMFS regulations governing listed fish and wildlife permits (50 CFR parts 222-226).

Species Covered in This Notice

The ESA-listed species/evolutionarily significant units (ESUs) covered by this notice are identified below and listed in the subsequent table by the numbers that precede each of them in the following text:

(1) Threatened Puget Sound chinook salmon (Oncorhynchus tshawytscha)

(2) Threatened Lower Columbia River chinook salmon

(3) Threatened Snake River spring/summer chinook salmon

(4) Threatened Snake River fall chinook salmon

(5) Endangered Upper Columbia River spring-run chinook salmon

(6) Threatened Upper Willamette River chinook salmon

(7) Threatened Lower Columbia River steelhead (O. mykiss)

(8) Threatened Middle Columbia River steelhead

(9) Threatened Snake River steelhead

(10) Threatened Upper Willamette River steelhead

(11) Endangered Upper Columbia River steelhead

(12) Threatened Southern Oregon/Northern California Coasts coho salmon (O. kisutch)

(13) Threatened Oregon Coast coho salmon

Permits/Modifications Issued

Table 1. Five Scientific Research Permit/Modification Actions Affecting Threatened and Endangered Pacific Salmon and Steelhead
Permit Number | Affected Species/ESU | Permittee | FEDERAL REGISTER Notice of Application Receipt
1140 | 1 | Northwest Fisheries Science Center | March 14, 2003 (68 FR 12342)
1156 | 1-13 | U.S. Environmental Protection Agency | March 14, 2003 (68 FR 12342)
1309 | 1 | King County Department of Natural Resources and Parks | March 14, 2003 (68 FR 12342)
1315 | 1 | U.S. Corps of Engineers Seattle District | March 14, 2003 (68 FR 12342)
1376 | 1 | Washington Cooperative Fish and Wildlife Research Unit | April 2, 2003 (68 FR 15997)

Dated: June 26, 2003.
Phil Williams,
Chief, Endangered Species Division, Office of Protected Resources, National Marine Fisheries Service.

[FR Doc. 03-16572 Filed 6-30-03; 8:45 am]

BILLING CODE 3510-22-S